DEPARTMENT OF HOMELAND SECURITY

Transportation Security Administration

New Agency Information Collection Activity Under OMB Review: Pipeline Security Awareness (CD-1) Effectiveness Assessment

AGENCY: Transportation Security Administration, DHS.

ACTION: Notice.

SUMMARY: This notice announces that the Transportation Security Administration (TSA) has forwarded the new Information Collection Request (ICR) abstracted below to the Office of Management and Budget (OMB) for review and approval under the Paperwork Reduction Act. The ICR describes the nature of the information collection and its expected burden. TSA published a Federal Register notice, with a 60-day comment period soliciting comments, of the following collection of information on January 31, 2007, 72 FR 4526.

DATES: Send your comments by January 2, 2008. A comment to OMB is most effective if OMB receives it within 30 days of publication.

ADDRESSES: Interested persons are invited to submit written comments on the proposed information collection to the Office of Information and Regulatory Affairs, Office of Management and Budget. Comments should be addressed to Nathan Lesser, Desk Officer, Department of Homeland Security/TSA, and sent via electronic mail to oira_submission@omb.eop.gov or faxed to (202) 395-6974.

FOR FURTHER INFORMATION CONTACT: Joanna Johnson, Communications Branch, Business Management Office, Operational Process and Technology, TSA-11, Transportation Security Administration, 601 South 12th Street, Arlington, VA 22202-4220; telephone (571) 227-3651; facsimile (571) 227-3885.

SUPPLEMENTARY INFORMATION:

Comments Invited

In accordance with the Paperwork Reduction Act of 1995 (44 U.S.C. 3501 et seq.), an agency may not conduct or sponsor, and a person is not required to respond to, a collection of information unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Pipeline Security Awareness (CD-1) Effectiveness Assessment.

Type of Request: New collection.

OMB Control Number: Not yet assigned.

Form(s): NA.

Affected Public: Pipeline companies.

Abstract: As prescribed by the President in Homeland Security Presidential Directive 7 (HSPD-7), the Department of Homeland Security (DHS) was tasked to protect our nation's critical infrastructure and key resources (CI/KR). Through the National Infrastructure Protection Plan (NIPP), DHS gives guidance and direction as to how the Nation will secure its infrastructure. Furthermore, HSPD-7 and the NIPP assigned the responsibility for infrastructure security in the transportation sector to TSA. To this effect, the NIPP further tasks each sector to build security partnerships, set security goals and to measure their effectiveness. To increase the security awareness levels across the pipeline industry, TSA plans to develop and distribute a Security Awareness Training compact disk (CD-1) to interested pipeline companies. In order to measure the effectiveness of CD-1 on raising pipeline company employee security awareness levels, TSA will solicit voluntary feedback from pipeline companies seeking to utilize the CD-1. TSA will use this information to: (1) Assess the effect of the CD-1 project on raising the baseline level of security awareness within the pipeline industry, and (2) obtain, based on individual company input, an indication of CD-1 user participation and employee participation levels throughout the pipeline industry.

Number of Respondents: 300.

Estimated Annual Burden Hours: An estimated 200 hours annually.

Issued in Arlington, Virginia, on November 27, 2007.
Fran Lozito,
Director, Business Management Office, Operational Process and Technology.

[FR Doc. E7-23365 Filed 11-30-07; 8:45 am]

BILLING CODE 9110-05-P